DEPARTMENT OF THE INTERIOR

National Park Service

Notice of Intent To Prepare a Restoration Plan/Draft Programmatic Environmental Impact Statement for Coral Restoration Within Biscayne National Park

SUMMARY: Under the provisions of Section 102(2)(C) of the National Environmental Policy Act of 1969, the National Park Service is preparing a Coral Restoration Plan/Programmatic Environmental Impact Statement (RP/PEIS). This plan is intended to guide all future coral restoration activities performed within Biscayne National Park (BISC).

NPS is undertaking restoration planning and an impact analysis to identify and assess potential impacts of performing restoration activities on injured coral reef communities at vessel grounding sites within BISC. As part of this process NPS will evaluate a range of alternatives for coral reef restoration to determine the potential impacts of those alternatives, including those on land use, water quality, biological resources, geology, cultural resources, human health and safety, and aesthetics. The alternatives that may be evaluated for coral restoration are specific for each injury type including geological, biological, and other. Preliminary alternatives for geological injuries include seal/fill fractures, removal of material/rubble, filling fractures with rubble or other materials, translocate biota to stabilize surface, promote natural depositional processes, re-attachment of displaced substrate, re-establish topography, stabilize rubble, and relocation of rubble. Preliminary alternatives for biological injuries include re-attachment on-site, translocation/transplanting, seeding, removal of toxic material (e.g., bottom paint), and removal of acute and chronic point source and on-site treatment of water column contaminants. Preliminary alternatives for other injuries would include removal of debris. The purpose of the coral RP/PEIS is to develop a restoration plan that can be used by the NPS to restore coral reefs. This plan is needed to remedy injuries and damage caused by vessel groundings.

To facilitate sound planning and consideration of environmental resources, the NPS intends to gather information necessary for the preparation of the coral RP/PEIS and to obtain suggestions and information from other agencies and the public on the scope of issues to be addressed in the RP/PEIS.

Vessel groundings are common occurrences in BISC due to shallow water conditions outside marked channels. When a vessel runs aground on a coral reef, injuries associated with the grounding and subsequent extrication include surficial scraping of the hard bottom substrate and reef structure, blowhole formations (displacement of unconsolidated substrate that occurs when the vessel attempts to power off) fractured substrate, loss of topography, displacement of substrate (rubble), loss of living organisms, hull paint deposition on scarred substrate, introduction of contaminants to the water column (e.g., fuel, cargo) and keel scars.

Coral reefs are some of the oldest, most unique, and productive ecosystems. The coral reefs within BISC are natural resources that the NPS preserves and protects for the education, inspiration, recreation, and enjoyment of present and future generations. Vessel groundings often cause structural injury to the reef matrix increasing the potential for continued erosion. Lack of management intervention after a grounding incident often results in a continued degradation and enlargement of the impacted site over time. The Park System Resource Protection Act (PSRPA) authorizes the NPS to seek compensation for injuries to Park System resources and use the recovered funds to restore, replace, or acquire equivalent resources, and to monitor and study such resources. It is the intent of NPS to prepare this coral RP/PEIS to facilitate so that a tiered process can be used to facilitate further site-specific coral reef restoration actions within BISC.

DATES: The NPS will accept comments from the public on the scope of the RP/PEIS within 60 days of the publication of this notice. In addition, NPS is seeking comments on the issues and alternatives to be addressed in the RP/PEIS. Full public participation by Federal, State, and local agencies as well as other concerned organizations and private citizens is invited throughout the preparation process of this document. The draft Coral RP/PEIS is expected to be completed and presented at a public meeting anticipated for November 2006. The location, date, and time of the public meeting will be announced in the local press and on the park Web site (http://www.nps.gov/bisc). They may also be obtained by contacting BISC. The purposes of the public meeting will be to obtain both written and verbal questions and comments on the issues and alternatives to assist NPS in finalizing the coral RP/PEIS.

FOR FURTHER INFORMATION CONTACT: Written comments and information concerning the scope of the coral RP/PEIS may be directed to the address below. Requests to be added to the project mailing list should be sent to the same address. Amanda Bourque, Damage Recovery Program Manager, National Park Service, Biscayne National Park, 9700 SW., 328th Street, Homestead, FL 33033, (305) 230-1144, BISC_Superintendent@nps.gov.

SUPPLEMENTARY INFORMATION: If you wish to comment during the scoping process on any issues associated with the plan, you may use any one of several methods. Comments should be received within 60 days of the publication of this notice. You may mail comments to the address listed above. You may also comment on the Internet at the Planning, Environment and Public Comment (PEPC) Web site at http://parkplanning.nps.gov. Please submit Internet comments as a text file avoiding the use of special characters and any form of encryption. Please put in the subject line “Coral Restoration Plan/PEIS” and include your name and return address in your Internet message.

It is the practice of the NPS to make all comments, including names and addresses of those who comment, available for public review, after the close of the NEPA process. Anonymous comments may not be considered. NPS will make all submissions from organizations or businesses, and from individuals identifying themselves as representatives or officials of organizations or businesses, available for public inspection in their entirety. However, individuals not representing businesses or organizations may request that the NPS withhold their name and/or address from the record. NPS will honor this request to the extent allowable by law.

If you would like your name and/or address withheld and are using PEPC to comment, but would still like future mailings/information on the project, you may fill in the name and address field, and mark “keep my contact information private.” Or, if you do not want to receive additional information on the project, you may put N/A in the name and address field.

The authority for publishing this notice is 40 CFR 1506.6. The responsible official for this draft RP/EIS is the Regional Director for the Southeast Region, Patricia A. Hooks.

Dated: January 11, 2006.
Victor Knox,
Acting Deputy Regional Director, NPS Southeast Region.

[FR Doc. E6-2309 Filed 2-16-06; 8:45 am]

BILLING CODE 4310-ML-P